DEPARTMENT OF HOMELAND SECURITY

Coast Guard

[Docket No. USCG-2014-0098]

Chemical Transportation Advisory Committee

AGENCY: Coast Guard, DHS

ACTION: Notice of Federal Advisory Committee Meeting.

SUMMARY: The Chemical Transportation Advisory Committee (CTAC) and its subcommittees will meet on August 19, 20, and 21, 2014, in Arlington, VA, to discuss the safe and secure marine transportation of hazardous materials. The meetings will be open to the public.

DATES: Subcommittees will meet on Tuesday, August 19, 2014, from 8:30 a.m. to 5 p.m. and on Wednesday, August 20, 2014, from 8:30 a.m. to 5 p.m. The full committee will meet on Thursday, August 21, 2014, from 8:30 a.m. to 5 p.m. Please note that the meetings may close early if the Committee has completed its business.

Please submit written materials and comments to the docket using any one of the methods listed in the ADDRESSES section below. Any written material submitted by the public will be distributed to the committee and become part of the public record.

ADDRESSES: The meetings will be held at the U.S. Coast Marine Safety Center, Suite 400, 4200 Wilson Boulevard, Arlington, VA 20598. Attendees will be required to pre-register no later than 5:00 p.m. on August 11, 2014, to be admitted to the meeting. To pre-register contact Lieutenant Cristina Nelson (202-372-1419) or Cristina.E.Nelson@uscg.mil) and provide your name, company and telephone number. Attendees will be required to provide a government-issued picture identification card in order to gain admittance to the building.

For information on facilities or services for individuals with disabilities or to request special assistance at the meeting, contact the individual listed in the FOR FURTHER INFORMATION CONTACT as soon as possible.

To facilitate public participation, we are inviting public comment on the issues to be considered by the Committee as listed in the “Agenda” section below. In order to be considered at the meetings, comments must be submitted in writing no later than August 11, 2014. Comments may be submitted by one of the following methods:

• Federal eRulemaking Portal: http://www.regulations.gov. Follow the instructions for submitting comments. (This is the preferred method to avoid delays in processing.)

• Fax: 202-493-2252

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, type USCG-2014-0098 in the Search box, press Enter, and then click on the item you wish to view.

FOR FURTHER INFORMATION CONTACT: Mr. Patrick Keffler, Alternate Designated Federal Official (ADFO) of the CTAC, 2703 Martin Luther King Jr. Ave. SE., Stop 7509, Washington, DC 20593-7509, telephone 202-372-1424, fax 202-372-8380. If you have any questions on viewing or submitting material to the docket, call Cheryl Collins, Program Manager, Docket Operations, telephone 202-366-9826 or 1-800-647-5527.

SUPPLEMENTARY INFORMATION: Notice of this meeting is given under the Federal Advisory Committee Act (FACA), 5 U.S.C. App., Public Law 92-463, 86 Stat. 770, as amended.

CTAC is an advisory Committee authorized under section 871 of the Homeland Security Act of 2002, 6 U.S.C. 451, and is chartered under the provisions of the FACA. The committee acts solely in an advisory capacity to the Secretary of the Department of Homeland Security (DHS) through the Commandant of the Coast Guard and the Deputy Commandant for Operations on matters relating to safe and secure marine transportation of hazardous materials activities insofar as they relate to matters within the United States Coast Guard's (USCG) jurisdiction. The committee advises, consults with, and makes recommendations reflecting its independent judgment to the Secretary.

Agendas of Meetings

Subcommittee Meetings on August 19 and 20, 2014.

The subcommittees on biofuels, liquefied gases, outreach, Ship to Ship Transfer of Hazardous Material Outside of the Baseline, and the International Convention for the Prevention of Pollution from Ships (MARPOL) will meet to continue to address the task statements listed in paragraph (3) of the agenda for the August 21 meeting and the tasks given at the last CTAC meeting. The task statements from the last CTAC meeting are located at Homeport at the following address: https://homeport.uscg.mil. Go to: Missions > Ports and Waterways > Safety Advisory Committees > CTAC Subcommittees and Working Groups.

The agenda for each subcommittee will include the following:

1. Review task statements, which are listed in paragraph (3) of the agenda for the August 21 meeting.

2. Work on tasks assigned in task statements mentioned above.

3. Public comment period.

4. Discuss and prepare proposed recommendations for the CTAC meeting on August 21 on tasks assigned in detailed task statements mentioned above.

Committee Meeting on August 21.

The agenda for the CTAC meeting on August 21 is as follows:

1. Introductions and opening remarks.

2. Public comment period.

3. Committee will meet to review, discuss, and formulate recommendations on the following items of interest:

a. Harmonization of Response and Carriage Requirements for Biofuels and Biofuel Blends.

b. Recommendations on Safety Standards for the Design of Vessels Carrying Natural Gas or Using Natural Gas as Fuel.

c. Recommendations for Safety Standards for Ship to Ship Transfer of Hazardous Material Outside of the Baseline.

d. Recommendations for Guidance on the Implementation of Revisions to MARPOL Annex II and the International Code for the Construction and Equipment of Ships Carrying Dangerous Chemicals in Bulk (commonly known as the IBC Code).

e. Requirements for Third-Party Surveyors of MARPOL Annex II Prewash Operations.

f. Improving Implementation of and Education about MARPOL Discharge Requirements Under MARPOL Annex II and V.

4. USCG presentations on the following items of interest:

a. Update on International Maritime Organization activities as they relate to the marine transportation of hazardous materials.

b. Update on U.S. regulations as they relate to the marine transportation of hazardous materials.

c. Update on Bulk Chemical Data Guide (Blue Book).

d. Update on vessel to vessel transfer of hazardous materials in bulk.

5. Set next meeting date and location.

6. Set Subcommittee Meeting schedule.

A public comment period will be held during each Subcommittee and the full committee meeting concerning matters being discussed. Public comments will be limited to 3 minutes per speaker. Please note that the public comment period may end before the time indicated, following the last call for comments. Please contact Mr. Patrick Keffler, listed in the FOR FURTHER INFORMATION CONTACT section to register as a speaker.

Dated: June 17, 2014.
F.J. Sturm,
Acting Director of Commercial Regulations and Standards.

[FR Doc. 2014-14440 Filed 6-19-14; 8:45 am]

BILLING CODE 9110-04-P